FEDERAL COMMUNICATIONS COMMISSION

Notice of Public Information Collection(s) Being Submitted for Review to the Office of Management and Budget

October 27, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 2, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov. If you would like to obtain or view a copy of this new or revised information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-0987.

Title: 911 Callback Capability: Non-initialized Phones.

Form No.: N/A.

Type of Review: Extension of a currently approved collection.

Respondents: Business or other for-profit, and State, local and tribal governments.

Number of Respondents: 3,137.

Estimated Time Per Response: .50-3 hours.

Frequency of Response: One time reporting requirement and third party disclosure requirement.

Total Annual Burden: 4,885 hours.

Total Annual Cost: $661,125.

Privacy Act Impact Assessment: N/A.

Needs and Uses: The Commission seeks three-year approval for an extension (no change in requirements) for this information collection.

This collection places reporting and third party requirements on wireless and wireline carriers and equipment manufacturers aimed at responding to the problem of the inability of emergency workers to contact for further critical information a 911 caller using a non-initialized wireless telephone or a “911 only” phone, which do not have dialable numbers. To advise the public and emergency workers of this limitation and to thus advise them in using such phones in emergency situations to provide as much critical information, particularly regarding location, the Commission adopts labeling, software, and public education requirements.

Federal Communications Commission.
Marlene H. Dortch,
Secretary.

[FR Doc. 05-21870 Filed 11-1-05; 8:45 am]

BILLING CODE 6712-01-P